DEPARTMENT OF ENERGY

Federal Energy Regulatory Commission

[Docket No. IN17-4-000]

Rover Pipeline, LLC; Energy Transfer Partners, L.P.; Updated Notice of Designation of Commission Staff as Non-Decisional

With respect to an order issued by the Commission on December 16, 2021, in the above-captioned docket, with the exceptions noted below, the staff of the Office of Enforcement are designated as non-decisional in deliberations by the Commission in this docket.¹ Accordingly, pursuant to 18 CFR 385.2202 (2021), they will not serve as advisors to the Commission or take part in the Commission's review of any offer of settlement. Likewise, as non-decisional staff, pursuant to 18 CFR 385.2201 (2021), they are prohibited from communicating with advisory staff concerning any deliberations in this docket.

¹ Rover Pipeline, LLC and Energy Transfer Partners, L.P., 177 FERC ¶ 61,182 (2021).

Exceptions to this designation as non-decisional are:

Serrita Hill

Seema K. Jain

Grace Kwon

Gabriel Sterling

Dated: January 21, 2022.
Kimberly D. Bose,
Secretary.

[FR Doc. 2022-01679 Filed 1-27-22; 8:45 am]

BILLING CODE 6717-01-P